ELECTION ASSISTANCE COMMISSION

Sunshine Act Meeting

AGENCY: United States Election Assistance Commission.

ACTION: Technical Guidelines Development Committee (TGDC). Announcement of TGDC Subcommittee Public Meetings.

DATE AND TIME: The subcommittee meetings will be held September 20th (Transparency and Security), 21st (Core Requirements and Testing) and 22nd (Human Factors and Privacy), 2004 from 9 a.m. until 5 p.m.

ADDRESS AND REGISTRATION: The meetings will be held at the National Institute of Standards and Technology North Campus, 820 West Diamond Avenue, Room 152, Gaithersburg, MD 20899. Due to security requirements advance registration is required at http://vote.nist.gov. Registration will be available until 5 p.m., E.S.T., on Wednesday, September 15, 2004. There is no fee.

STATUS: This meeting will be open to the public.

SUMMARY: Public Law 107-252, the Help America Vote Act of 2002 (HAVA), establishes a 15-member Technical Guidelines Development Committee (TGDC) to assist the Executive Director of the Election Assistance Commission (EAC) in the development of voluntary voting system guidelines. HAVA names the Director of the National Institute of Standards and Technology (NIST) to chair the TGDC and requires NIST to provide the TGDC with technical support necessary to carry out its duties. The TGDC met on July 9, 2004, and resolved to establish three five-member subcommittees, each to be chaired by a member. The EAC subsequently approved formation of the subcommittees. The subcommittees are named: (1) Security and Transparency, (2) Human Factors and Privacy, and (3) Core Requirements and Testing.

The duties of the TGDC include the gathering and analysis of data and information related to the security of computers, human factors, voter privacy, and methods to detect and prevent fraud. The purpose of the subcommittee meetings is to provide an opportunity for the election community to offer testimony on technical issues related to the TGDC's voluntary voting standards development process. Each meeting will be chaired by the respective subcommittee chair, and will consist of the presentation of panels of experts by technical subject matter. One hour will be reserved at the conclusion of each day for members of the public to provide up to five minutes of testimony. Members of the public intending to present testimony are requested to indicate this on the advance registration form. Relevant issues include security, transparency, human factors, privacy, core standards requirements and testing of voting systems. Further information on the hearings, including listings of subcommittee members and panel topics, is available at http://vote.nist.gov.

FOR FURTHER INFORMATION CONTACT: Allan Eustis, Project Director, Technical Guidelines Development Committee, 100 Bureau Drive/MS 8900, Gaithersburg, MD 20899-8900, phone (301) 975-5099 or e-mail voting@nist.gov.

SUPPLEMENTARY INFORMATION: U.S. Election Assistance Commission, Technical Guidelines Development Subcommittee Meetings, September 20, 21, and 22, 2004. 9 a.m.

Agenda (Same for All Three Days)

Call to Order

Pledge of Allegiance

Roll Call

Adoption of Agenda

Introductions

Remarks by Commissioners

Panel One

Panel Two

Panel Three

Panel Four

Public Comment Period

Adjournment

Note: Composition and detailed subject matter for each of the various panels is under development. As information becomes available, these details will be posted at http://vote.nist.gov.

Gracia M. Hillman,
Vice-Chair, U.S. Election Assistance Commission.

[FR Doc. 04-20364 Filed 9-2-04; 3:48 pm]

BILLING CODE 6820-YN-M